DEPARTMENT OF THE INTERIOR

National Park Service

Herring River Restoration, Environmental Impact Statement, Cape Cod National Seashore, MA

AGENCY: National Park Service, Department of the Interior.

ACTION: Notice of Intent to prepare an Environmental Impact Statement for the Herring River Restoration, Cape Cod National Seashore.

SUMMARY: In accordance with § 102(2)(C) of the National Environmental Policy Act of 1969, as amended (NEPA), the National Park Service is preparing an Environmental Impact Statement for the Herring River Restoration Project, Cape Cod National Seashore, Massachusetts. This restoration project is being developed in partnership with the Town of Wellfleet and the Town of Truro, and in cooperation with Massachusetts Coastal Zone Management, U.S. Fish and Wildlife Service, National Oceanic and Atmospheric Administration, and Natural Resources Conservation Service. In addition to satisfying the requirements and intent of the NEPA, this Environmental Impact Statement will also be developed in compliance with the Massachusetts Environmental Policy Act (MEPA) and thus will result in a combined Environmental Impact Statement/Environmental Impact Report (EIS/EIR).

The purpose of this project and EIS/EIR is to provide for the restoration of over 1100 acres of salt-marsh and estuarine habitat in the Herring River which has been degraded by diking and drainage since 1909. Restoration is needed to: (1) Re-establish the physical connection between the estuary and Cape Cod Bay for natural material exchange and for access by marine animals including migratory fish; (2) restore aquatic habitat and ecosystem services both within the estuary and in receiving waters of Wellfleet Harbor by reversing the water-quality impacts of 100 years of diking and drainage; (3) replace existing invasive exotic plant species with native salt-marsh species through the reestablishment of natural estuarine salinity; (4) restore ecosystem productivity through the reestablishment of naturally high tidal range; (5) minimize the long-term management and social costs of continued diking in the face of current, and likely accelerating, sea-level rise; and (6) guide a phased, carefully monitored and adaptively managed long-term restoration program. The EIS/EIR will examine a range of feasible alternatives and evaluate potential impacts on natural resources, cultural resources, and the human environment.

The public is invited to comment on the purpose, need, objectives, preliminary alternatives, or any other issues associated with the plan. A scoping newsletter has been prepared that details the purpose, need, and issues identified to date. The newsletter is available on-line at http://parkplanning.nps.gov. Select “Cape Cod NS” and follow the link to the Herring River Restoration EIS. Paper copies may also be obtained by e-mailing CACO_Herring_River@nps.gov, or from Carrie Phillips, Cape Cod National Seashore, 99 Marconi Site Road, Wellfleet, MA 02667, 508-349-3785.

DATES: The NPS will accept comments from the public regarding this Notice of Intent until October 31, 2008. In addition, public scoping meetings will be held in Wellfleet beginning in August 2008. Dates and times will be advertised in local newspapers, the park Web site (http://www.nps.gov/caco), the NPS Planning, Environment and Public Comment Web site (http://parkplanning.nps.gov) or contact Carrie Phillips, Cape Cod NS, at the address shown below.

ADDRESSES: Written comments may be submitted by mail or hand delivery to Superintendent, Cape Cod National Seashore, 99 Marconi Site Road, Wellfleet, MA 02667. Comments may be submitted electronically at http://parkplanning.nps.gov, or by e-mail to CACO_Herring_River@nps.gov. Comments may also be provided at the public scoping meetings which will be held at the Wellfleet Senior Center (Council on Aging), 715 Old Kings Highway, Wellfleet, Massachusetts.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Carrie Phillips, Cape Cod National Seashore, 99 Marconi Site Road, Wellfleet, MA 02667, 508-349-3785; e-mail: CACO_Herring_River@nps.gov.

SUPPLEMENTARY INFORMATION: The Herring River estuary comprised over half of the tidal marshes of Wellfleet Harbor prior to diking in 1909, provided 1100 acres of feeding, spawning and nursery habitat to thousands of species of resident and migratory marine and estuarine animals, and exported foods that promoted the high productivity of receiving waters throughout Wellfleet Bay. In particular, the river's herring and eel runs and shellfish beds were an economic and social focus of the maritime community. Thus the 1909 diking was controversial, and is increasingly so in light of the high ecological and social values of natural salt marshes identified over the past few decades. Since 1961, 80 percent of this estuary has been incorporated within the boundaries of Cape Cod National Seashore, a unit of the National Park Service responsible for preserving and restoring native ecosystems.

Nearly 30 years of ecological research by National Park Service and cooperating scientists into the effects of the 1909 diking of the Herring River estuary have documented chronic and severe water-quality problems and frequent fish kills. In response, the Town of Wellfleet in August 2005 appointed a Herring River Technical Committee, representing the Towns of Wellfleet and Truro, Massachusetts Coastal Zone Management, Cape Cod National Seashore, and other federal, state and regional resource-management agencies, to develop a Conceptual Restoration Plan. The Conceptual Restoration Plan was completed in October 2007 and accepted by the towns and the Seashore shortly thereafter under an agreement that further established a new Herring River Restoration Committee tasked with guiding the project through both federal NEPA and state MEPA review and developing a detailed restoration plan.

Through an extensive preliminary scoping process conducted during the development of the Conceptual Restoration Plan, the Herring River Technical Committee identified these issues: Restoration of the estuary's functions through reconnection to the marine environment, improvement of surface-water quality, protection of shellfish beds, protection of potable groundwater quality, protection of adjacent private properties and public roadways, nuisance mosquito breeding, and exotic plants.

In addition to the no action alternative, alternatives that could be considered in the EIS/EIR include full tidal restoration and a phased and incremental process of tidal restoration, monitoring and analysis of system response, public outreach and adaptive management.

Dated: August 12, 2008.
Dennis R. Reidenbach,
Regional Director, Northeast Region, National Park Service.

[FR Doc. E8-19436 Filed 8-20-08; 8:45 am]

BILLING CODE 4310-WU-P